LIBRARY OF CONGRESS

Copyright Office

37 CFR Part 201

[Docket No. 2005-6]

Statutory Cable, Satellite, and DART License Reporting Practices

AGENCY: U.S. Copyright Office, Library of Congress.

ACTION: Notice of proposed rulemaking; extension of comment period.

SUMMARY: The United States Copyright Office is extending the deadlines for the submission of written comments in response to its December 1, 2017 notice of proposed rulemaking concerning the royalty reporting practices of cable operators under section 111 and proposed revisions to the Statement of Account forms, and on proposed amendments to the Statement of Account filing requirements.

DATES: The comment period for the notice of proposed rulemaking published on December 1, 2017 (82 FR 56926), which was extended on December 27, 2017 (82 FR 61200) and further extended on March 8, 2018 (83 FR 9824), is again extended. Initial written comments must be received no later than 11:59 p.m. Eastern time on October 4, 2018. Written reply comments must be received no later than 11:59 p.m. Eastern time on October 25, 2018.

ADDRESSES: For reasons of government efficiency, the Copyright Office is using the regulations.gov system for the submission and posting of public comments in this proceeding. All comments are therefore to be submitted electronically through regulations.gov. Specific instructions for submitting comments are available on the Copyright Office website at https://copyright.gov/rulemaking/section111. If electronic submission of comments is not feasible due to lack of access to a computer and/or the internet, please contact the Office using the contact information below for special instructions.

FOR FURTHER INFORMATION CONTACT: Regan A. Smith, General Counsel and Associate Register of Copyrights, by email at resm@loc.gov, or Anna Chauvet, Assistant General Counsel, by email at achau@loc.gov, or either of them by telephone at 202-707-8350.

SUPPLEMENTARY INFORMATION: On December 1, 2017, the Office issued a notice of proposed rulemaking (“NPRM”) on proposed rules governing the royalty reporting practices of cable operators under section 111 and proposed revisions to the Statement of Account forms, and on proposed amendments to the Statement of Account filing requirements.¹

¹ 82 FR 56926 (Dec. 1, 2017).

On December 13, 2017, NCTA—The Internet & Television Association submitted a motion seeking to extend the initial comment period until March 16, 2018, with written reply comments due by April 2, 2018.²

² COLC-2017-0013-0003.

On May 29, 2018, Program Suppliers submitted a motion seeking to extend the initial comment period until October 4, 2018, with written reply comments due by October 25, 2018 (“2018 Extension Request”).³ The 2018 Extension Request notes that NCTA—The Internet & Television Association supports the requested extension and that Joint Sports Claimants will not oppose it.⁴ In addition, the 2018 Extension Request states that the “parties have been developing their positions as to what and how reporting practices might be improved in light of intervening statutory and regulatory changes,” and “whether a consensus can be reached on some or all the issues raised” in the NPRM.⁵

³ COLC-2017-0013-0007.

⁴ Id.

⁵ Id.

To ensure that current remitters and other stakeholders have sufficient time to try and reach consensus on some or all of the issues raised in the NPRM, the Office is extending the deadline for the submission of initial written comments to 11:59 p.m. Eastern time on October 4, 2018. Written reply comments must be received no later than 11:59 p.m. Eastern time on October 25, 2018.

Dated: May 30, 2018.
Regan A. Smith,
General Counsel and Associate Register of Copyrights.

[FR Doc. 2018-12080 Filed 6-5-18; 8:45 am]

BILLING CODE 1410-30-P